DEPARTMENT OF HEALTH AND HUMAN SERVICES

Meeting Notice for the President's Advisory Council on Faith-Based and Neighborhood Partnerships

In accordance with section 10(a)(2) of the Federal Advisory Committee Act (Pub. L. 92-463), the President's Advisory Council on Faith-based and Neighborhood Partnerships announces the following webinar:

Name: President's Advisory Council on Faith-based and Neighborhood Partnerships Council Meetings

Time and Date: Wednesday, June 22, 2016 3:00 p.m.-5:00 p.m. (EDT)

Public Webinar: The conference call will be available to the public through a webinar system. Register to participate in the conference call on Wednesday, June 22 at the Web site https://attendee.gotowebinar.com/register/2826503921415476996

Status: Conference call limited only by lines available.

Purpose: The Council brings together leaders and experts in fields related to the work of faith-based and neighborhood organizations in order to: Identify best practices and successful modes of delivering social services; evaluate the need for improvements in the implementation and coordination of public policies relating to faith-based and other neighborhood organizations; and make recommendations for changes in policies, programs, and practices. The charge for this Council focuses on steps the government should take to reduce poverty and inequality and create opportunity for all, including changes in policies, programs, and practices that affect the delivery of services by faith-based and community organizations and the needs of low-income and other underserved persons.

Contact Person for Additional Information: Please contact Ben O'Dell for any additional information about the President's Advisory Council meeting at partnerships@hhs.gov

Agenda: Opening and Welcome from the Chairperson and Executive Director for the President's Advisory Council for Faith-based and Neighborhood Partnership; Presentation of additional language and recommendations for the report; Deliberation of recommendations (if necessary); Conclusion from Chairperson and Executive Director

Public Comment: There will be an opportunity for public comment at the end of the meeting. Desire to make comments and questions should be sent in advance to partnerships@hhs.gov.

Dated: June 2, 2016.
Ben O'Dell,
Associate Director for Center for Faith-based and Neighborhood Partnerships at U.S. Department of Health and Human Services.

[FR Doc. 2016-13540 Filed 6-7-16; 8:45 am]

BILLING CODE 4154-07-P